DEPARTMENT OF THE INTERIOR

Bureau of Land Management

[BLM_AZ_FRN_MO4500170880]

Notice of Filing of Plats of Survey; Arizona

AGENCY: Bureau of Land Management, Interior.

ACTION: Notice of official filing.

SUMMARY: The plats of survey of the following described land were officially filed in the Bureau of Land Management (BLM), Arizona State Office, Phoenix, Arizona on the dates indicated. The surveys announced in this notice are necessary for the management of lands administered by the agency indicated.

ADDRESSES: These plats will be available for inspection in the Arizona State Office, Bureau of Land Management, One North Central Avenue, Suite 800, Phoenix, Arizona 85004-4427. Protests of any of these surveys should be sent to the Arizona State Director at the above address.

FOR FURTHER INFORMATION CONTACT: Geoffrey Graham, Chief Cadastral Surveyor of Arizona; (623) 580-5579; ggraham@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

The Gila and Salt River Meridian, Arizona

The plat, in one sheet, representing the survey of a portion of the south boundary of Township 40 North, Range 26 East (north boundary), a portion of the Sixth Guide Meridian East (west boundary), the east boundary, and the subdivisional lines, and the subdivision of certain sections, Township 39 North, Range 25 East, accepted May 24, 2022, and officially filed May 26, 2022, for Group 1213, Arizona.

This plat was prepared at the request of the Bureau of Indian Affairs.

The plat, in one sheet, representing the metes-and-bounds survey of the Canyon de Chelly National Monument boundary, partially surveyed Township 31 North, Range 27 East, accepted September 26, 2022, and officially filed September 28, 2022, for Group 1219, Arizona.

This plat was prepared at the request of the United States Forest Service.

The plat, in two sheets, representing the dependent resurvey of a portion of the east and north boundaries, Township 5 North, Range 10 West, Navajo Special Meridian, the dependent resurvey of a portion of the Eighth Standard Parallel North through Ranges 26 and 27 East (north boundary), the dependent resurvey of a portion of the west boundary, the survey of the east boundary and a portion of the subdivisional lines, the subdivision of certain sections and the metes-and-bounds survey of the Canyon de Chelly National Monument boundary, Township 32 North, Range 27 East, accepted September 26, 2022, and officially filed September 28, 2022, for Group 1219, Arizona.

This plat was prepared at the request of the United States Forest Service.

The plat, in one sheet, representing the dependent resurvey of a portion of the subdivisional lines and the subdivision of section 20, Township 23 North, Range 30 East, accepted July 6, 2022, and officially filed July 8, 2022, for Group 1220, Arizona.

This plat was prepared at the request of the Bureau of Indian Affairs.

The plat, in one sheet, representing the dependent resurvey of a portion of the south boundary, a portion of the subdivisional lines, the subdivision of section 31, and a metes-and-bounds survey through sections 30 and 31, partially surveyed Township 6 South, Range 21 West, accepted November 29, 2022, and officially filed December 1, 2022, for Group 1218, Arizona.

This plat was prepared at the request of the United States Army.

The plat, in one sheet, representing the dependent resurvey of a portion of the subdivisional lines, the subdivision of sections 5, 6 and 8, and a metes-and-bounds survey through Sections 5, 6 and 8, Township 7 South, Range 21 West, accepted November 29, 2022, and officially filed December 1, 2022, for Group 1218, Arizona.

This plat was prepared at the request of the United States Army.

A person or party who wishes to protest any of these surveys must file a written notice of protest within 30 calendar days from the date of this publication with the Arizona State Director, Bureau of Land Management, stating that they wish to protest.

A statement of reasons for a protest may be filed with the notice of protest to the State Director, or the statement of reasons must be filed with the State Director within 30 days after the protest is filed. Before including your address, or other personal information in your protest, please be aware that your entire protest, including your personal identifying information, may be made publicly available at any time. While you can ask us in your comment to withhold your personal identifying information from public review, we cannot guarantee that we will be able to do so.

Authority: 43 U.S.C. chap. 3.

Geoffrey Graham,
Chief Cadastral Surveyor of Arizona.

[FR Doc. 2023-08711 Filed 4-24-23; 8:45 am]

BILLING CODE 4331-12-P